DEPARTMENT OF HOUSING AND URBAN DEVELOPMENT

[Docket No. FR-5415-FA-43]

Announcement of Funding Awards for Notice of Funding Availability (NOFA) for HUD's Fiscal Year 2010 Mortgage Modification and Mortgage Scams Assistance Housing Counseling Under the Housing Counseling Program

AGENCY: Office of the Assistant Secretary for Housing—Federal Housing Commissioner, HUD.

ACTION: Notice of Funding Awarded for HUD's Fiscal Year 2010 Mortgage Modification and Mortgage Scams Assistance (MMMSA) under the Housing Counseling Program.

SUMMARY: In accordance with section 102(a)(4)(C) of the Department of Housing and Urban Development Reform Act of 1989 (42 U.S.C. 3545), this announcement notifies the public of funding decisions made by the Department in a competition for funding under the Fiscal Year 2010 (FY 2010) Notice of Funding Availability (NOFA) for the Mortgage Modification and Mortgage Scams Assistance (MMMSA). Appendix A attached to this announcement lists the names and addresses of the agencies of this year's award recipients under the Housing Counseling Program.

FOR FURTHER INFORMATION CONTACT: Ruth Román, Director, Program Support Division, Room 2206, Office of Single Family Housing, Department of Housing and Urban Development, 470 L'Enfant Plaza East SW., Washington, DC, 20024-2135, telephone number 202-708-0317. Hearing- or speech-impaired individuals may access this number by calling the Federal Information Relay Service at telephone number 800-877-8339. (This is a toll free number.)

SUPPLEMENTARY INFORMATION: The Housing Counseling Program is authorized by Section 106 of the Housing and Urban Development Act of 1968 (12 U.S.C. 1701x). Consistent with this authority, HUD enters into agreement with qualified public or private nonprofit organizations to provide housing counseling services to low- and moderate-income individuals and families nationwide. The housing counseling services supported by the Housing Counseling Program include providing information and assistance to the homeless, renters, first-time homebuyers, homeowners, and senior citizens in areas such as pre-purchase counseling, financial management, property maintenance and other forms of housing assistance to help individuals and families improve their housing conditions and meet the responsibilities of tenancy and homeownership.

HUD funding of approved housing counseling agencies is not guaranteed, and when funds are awarded, a HUD grant does not cover all expenses incurred by an agency to deliver housing counseling services. Counseling agencies must actively seek additional funds from other sources such as city, county, state and federal agencies and from private entities to ensure that they have sufficient operating funds. The availability of Housing Counseling grants depends upon appropriations and the outcome of the award competition.

In accordance with Section 102(a)(4)(C) of the Department of Housing and Urban Development Reform Act of 1989 (103 Stat. 1987, 42 U.S.C. 3545), today's Federal Register publication lists in Appendix A the names, addresses, and amounts of each award made under the FY 2010 Housing Counseling NOFA. The requirements for the NOFA are found in the following documents: The General Section of HUD's FY 10 Notice of Funding Availability (NOFA) Policy Requirements and General Section HUD's FY 2010 NOFAs for Discretionary Programs printed on http://www.grants.gov on June 7, 2011, and Notice of Funding Availability (NOFA) for HUD's Fiscal Year 2010 Mortgage Modification and Mortgage Scams Assistance Housing Counseling under the Housing Counseling Program posted on the HUD Web site, http://www.hud.gov/ with a deadline date of June 18, 2011. Applications were scored and selected for funding on the basis of selection criteria contained in the NOFA. HUD awarded more than $10 million to support 26 national and regional organizations, and 139 state and local housing counseling agencies. These agencies will provide counseling services to homeowners to prevent or resolve mortgage delinquency, default and foreclosure, with the primary objective to preserve homeownership.

The Catalog of Federal Domestic Assistance (CFDA) number for the Housing Counseling Program is 14.169.

Dated: December 2, 2011.
Carol J. Galante,
Acting, Assistant Secretary for Housing-Federal Housing Commissioner.

INTERMEDIARY (23) Intermediary

(MMMSA)

AFFORDABLE HOUSING CENTERS OF AMERICA

846 N Broad St, 2nd floor

Philadelphia, PA 19130-2234

Grant Type: MORTGAGE MODIFICATION AND MORTGAGE SCAMS ASSISTANCE

Amount Awarded: $350,030.64

CATHOLIC CHARITIES USA

Sixty-Six Canal Center Plaza

Suite 600

Alexandria, VA 22314-2720

Grant Type: MORTGAGE MODIFICATION AND MORTGAGE SCAMS ASSISTANCE

Amount Awarded: $307,164.74

CCCS OF GREATER ATLANTA—DBA CREDABILITY

270 PEACHTREE STREET

SUITE 1800

ATLANTA, GA 30303

Grant Type: MORTGAGE MODIFICATION AND MORTGAGE SCAMS ASSISTANCE

Amount Awarded: $307,164.74

CLEARPOINT FINANCIAL SOLUTIONS, INC.

8000 Franklin Farms Dr.

Richmond, VA 23229

Grant Type: MORTGAGE MODIFICATION AND MORTGAGE SCAMS ASSISTANCE

Amount Awarded: $250,010.21

HOMEFREE—U S A

3401 A East-West Highway

Hyattsville, MD 20782

Grant Type: MORTGAGE MODIFICATION AND MORTGAGE SCAMS ASSISTANCE

Amount Awarded: $328,597.69

HOMEOWNERSHIP PRESERVATION FOUNDATION

3033 Excelsior Blvd.

Suite 500

Minneapolis, MN 55416

Grant Type: MORTGAGE MODIFICATION AND MORTGAGE SCAMS ASSISTANCE

Amount Awarded: $314,309.07

HOUSING PARTNERSHIP NETWORK

160 State Street, 5th Fl

Boston, MA 02109-2502

Grant Type: MORTGAGE MODIFICATION AND MORTGAGE SCAMS ASSISTANCE

Amount Awarded: $371,463.59

MON VALLEY INITIATIVE

303-305 E. 8th Avenue Homestead, PA 15120-1517

Grant Type: MORTGAGE MODIFICATION AND MORTGAGE SCAMS ASSISTANCE

Amount Awarded: $314,309.07

MONEY MANAGEMENT INTERNATIONAL INC.

14141 Southwest Freeway

Suite 1000

Sugarland, TX 77478

Grant Type: MORTGAGE MODIFICATION AND MORTGAGE SCAMS ASSISTANCE

Amount Awarded: $328,597.69

NACA (NEIGHBORHOOD ASSISTANCE CORPORATION OF AMERICA) 3607 Washington Street

Jamaica Plain, MA 02130

Grant Type: MORTGAGE MODIFICATION AND MORTGAGE SCAMS ASSISTANCE

Amount Awarded: $264,298.85

NATIONAL CAPACD

1628 16th Street, NW.

4th Floor

Washington DC, CA 20009

Grant Type: MORTGAGE MODIFICATION AND MORTGAGE SCAMS ASSISTANCE

Amount Awarded: $292,876.11

NATIONAL COMMUNITY REINVESTMENT COALITION, INC.

727 15th Street, NW., Suite 900

Washington, DC 20005-6027

Grant Type: MORTGAGE MODIFICATION AND MORTGAGE SCAMS ASSISTANCE

Amount Awarded: $350,030.64

NATIONAL COUNCIL OF LA RAZA

Raul Yzaguirre Building

1126 16th Street, NW., Suite 600

Washington, DC 20036

Grant Type: MORTGAGE MODIFICATION AND MORTGAGE SCAMS ASSISTANCE

Amount Awarded: $328,597.69

NATIONAL COUNCIL ON THE AGING (NCOA)

1901 L Street, NW.

8th Floor

Washington, DC 20036

Grant Type: MORTGAGE MODIFICATION AND MORTGAGE SCAMS ASSISTANCE

Amount Awarded: $328,597.69

NATIONAL FEDERATION OF COMMUNITY DEVELOPMENT CREDIT UNIONS

39 Broadway, 21st Floor

New York, NY 10006

Grant Type: MORTGAGE MODIFICATION AND MORTGAGE SCAMS ASSISTANCE

Amount Awarded: $328,597.69

NATIONAL FOUNDATION FOR CREDIT COUNSELING, INC.

2000 M St. NW.

Suite 505

Washington, DC 20036

Grant Type: MORTGAGE MODIFICATION AND MORTGAGE SCAMS ASSISTANCE

Amount Awarded: $321,453.38

NATIONAL URBAN LEAGUE

120 Wall Street

New York, NY 10005

Grant Type: MORTGAGE MODIFICATION AND MORTGAGE SCAMS ASSISTANCE

Amount Awarded: $321,453.38

NEIGHBORHOOD REINVESTMENT CORPORATION

1325 G. Street NW.

Suite 800

Washington, NY 20005

Grant Type: MORTGAGE MODIFICATION AND MORTGAGE SCAMS ASSISTANCE

Amount Awarded: $328,597.69

NUEVA ESPERANZA, INC.

4261 North 5th Street

Philadelphia, PA 19140-2615

Grant Type: MORTGAGE MODIFICATION AND MORTGAGE SCAMS ASSISTANCE

Amount Awarded: $271,443.16

RURAL COMMUNITY ASSISTANCE CORPORATION

3120 Freeboard Drive

Suite 201

West Sacramento, CA 95691

Grant Type: MORTGAGE MODIFICATION AND MORTGAGE SCAMS ASSISTANCE

Amount Awarded: $274,491.00

SPRINGBOARD NON-PROFIT CONSUMER CREDIT MANAGEMENT, INC

4351 Latham Street

Riverside, CA 92501

Grant Type: MORTGAGE MODIFICATION AND MORTGAGE SCAMS ASSISTANCE

Amount Awarded: $207,144.32

STRUCTURED EMPLOYMENT ECONOMIC DEVELOPMENT CO

915 Broadway, 17th Floor

New York, NY 10010

Grant Type: MORTGAGE MODIFICATION AND MORTGAGE SCAMS ASSISTANCE

Amount Awarded: $364,319.27

WEST TENNESSEE LEGAL SERVICES, INCORPORATED

210 West Main Street

Jackson, TN 38301

Grant Type: MORTGAGE MODIFICATION AND MORTGAGE SCAMS ASSISTANCE

Amount Awarded: $342,886.33

LHCA (139)

Atlanta (LHCA—MMMSA)

AFFORDABLE HOUSING ENTERPRISES, INC.

333 S. 9th Street

Griffin, GA 30224

Grant Type: MORTGAGE MODIFICATION AND MORTGAGE SCAMS ASSISTANCE

Amount Awarded: $23,696.54

ALLIANCE CREDIT COUNSELING, INC.

13777 Ballantyne Corporate Place

Suite 100

Charlotte, NC 28277

Grant Type: MORTGAGE MODIFICATION AND MORTGAGE SCAMS ASSISTANCE

Amount Awarded: $15,000.00

AREA COMMITTEE TO IMPROVE OPPORTUNITIES NOW, INC.

594 Oconee Street

Athens, GA 30605

Grant Type: MORTGAGE MODIFICATION AND MORTGAGE SCAMS ASSISTANCE

Amount Awarded: $23,075.36

B & D TRAINING SERVICES (INACTIVE)

2002 East 62nd Street

Indianapolis, IN 46220

Grant Type: MORTGAGE MODIFICATION AND MORTGAGE SCAMS ASSISTANCE

Amount Awarded: $29,287.17

BRIGHTON CENTER, INCORPORATED

741 Central Ave

Newport Ky 41071

Grant Type: MORTGAGE MODIFICATION AND MORTGAGE SCAMS ASSISTANCE

Amount Awarded: $28,665.99

BROWARD COUNTY HOUSING AUTHORITY

4780 North State Road 7

Main Office

Lauderdale Lakes, FL 33319

Grant Type: MORTGAGE MODIFICATION AND MORTGAGE SCAMS ASSISTANCE

Amount Awarded: $21,211.81

CCCS OF JACKSONVILLE D/B/A FAMILY FOUNDATIONS OF NORTHEAST FLORIDA, INC.

1639 ATLANTIC BLVD.

Jacksonville, FL 32207

Grant Type: MORTGAGE MODIFICATION AND MORTGAGE SCAMS ASSISTANCE

Amount Awarded: $24,317.72

CCCS OF WEST FL—MAIN OFFICE

14 Palafox Place

Pensacola, FL 32502

Grant Type: MORTGAGE MODIFICATION AND MORTGAGE SCAMS ASSISTANCE

Amount Awarded: $24,317.72

CCCS/FAMILY SERVICES INC.

4925 LaCross Road, Suite 215

North Charleston, SC 29406

Grant Type: MORTGAGE MODIFICATION AND MORTGAGE SCAMS ASSISTANCE

Amount Awarded: $28,044.81

CENTER FOR INDEPENDENT LIVING IN CENTRAL FLORIDA, INC.

720 N. Denning Drive

Winter Park, FL 32789

Grant Type: MORTGAGE MODIFICATION AND MORTGAGE SCAMS ASSISTANCE

Amount Awarded: $24,317.72

CENTER FOR PAN ASIAN COMMUNITY SERVICES, INC

3510 Shallowford Road NE.

Atlanta, GA 30341

Grant Type: MORTGAGE MODIFICATION AND MORTGAGE SCAMS ASSISTANCE

Amount Awarded: $26,802.35

CENTRAL FLORIDA COMMUNITY DEVELOPMENT CORPORATION

211 North Ridgewood Avenue

Daytona Beach, FL 32114

Grant Type: MORTGAGE MODIFICATION AND MORTGAGE SCAMS ASSISTANCE

Amount Awarded: $18,727.09

CITY OF TAMPA HOUSING AND COMMUNITY DEVELOPMENT DIVISION

2105 N. Nebraska Ave.

Tampa, FL 33602

Grant Type: MORTGAGE MODIFICATION AND MORTGAGE SCAMS ASSISTANCE

Amount Awarded: $19,969.45

COBB HOUSING, INCORPORATED

268 Lawrence ST, Suite 100

Marietta, GA 30060

Grant Type: MORTGAGE MODIFICATION AND MORTGAGE SCAMS ASSISTANCE

Amount Awarded: $18,727.09

CONSUMER CREDIT MANAGEMENT SERVICES, INC

315 NE 2nd Ave

Delray Beach, FL 33444

Grant Type: MORTGAGE MODIFICATION AND MORTGAGE SCAMS ASSISTANCE

Amount Awarded: $23,075.36

CREDIT CARD MANAGEMENT SERVICES, INC.

4611 Okeechobee Blvd.

Suite 114

West Palm Beach, FL 33417

Grant Type: MORTGAGE MODIFICATION AND MORTGAGE SCAMS ASSISTANCE

Amount Awarded: $18,727.09

CRISIS HOUSING SOLUTIONS, INC.

4700 SW 64th Avenue—Suite C

Davie, FL 33314

Grant Type: MORTGAGE MODIFICATION AND MORTGAGE SCAMS ASSISTANCE

Amount Awarded: $25,560.08

DUPAGE HOMEOWNERSHIP CENTER, INC

1600 E Roosevelt Road

Wheaton, IL 60187

Grant Type: MORTGAGE MODIFICATION AND MORTGAGE SCAMS ASSISTANCE

Amount Awarded: $28,044.81

FLORIDA COOPERATIVE EXTENSION

3001 McCarty Hall D

Gainesville, FL 32611

Grant Type: MORTGAGE MODIFICATION AND MORTGAGE SCAMS ASSISTANCE

Amount Awarded: $15,000.00

HIGHLAND FAMILY RESOURCE CENTER, INC

1008 Cameron Avenue

Gastonia, NC 28052

Grant Type: MORTGAGE MODIFICATION AND MORTGAGE SCAMS ASSISTANCE

Amount Awarded: $24,938.90

HOUSING AUTHORITY OF THE CITY OF JACKSON

2747 Livingston Rd

Jackson, MS 39213

Grant Type: MORTGAGE MODIFICATION AND MORTGAGE SCAMS ASSISTANCE

Amount Awarded: $16,242.36

HOUSING AUTHORITY, CITY OF ELKHART

1396 Benham Ave

Elkhart, IN 46516-3341

Grant Type: MORTGAGE MODIFICATION AND MORTGAGE SCAMS ASSISTANCE

Amount Awarded: $23,696.54

HOUSING EDUCATION AND ECONOMIC DEVELOPMENT, INC.

3405 Medgar Evers Blvd.

Jackson, MS 39213-6360

Grant Type: MORTGAGE MODIFICATION AND MORTGAGE SCAMS ASSISTANCE

Amount Awarded: $27,423.63

HOUSING PARTNERSHIP, INC.

2001 W. Blue Heron Blvd.

Riviera Beach, FL 33404

Grant Type: MORTGAGE MODIFICATION AND MORTGAGE SCAMS ASSISTANCE

Amount Awarded: $27,423.63

INCHARGE DEBT SOLUTIONS

5750 Major Blvd. Suite 175

Orlando, FL 32819

Grant Type: MORTGAGE MODIFICATION AND MORTGAGE SCAMS ASSISTANCE

Amount Awarded: $20,590.63

INTERFAITH HOUSING CENTER OF THE NORTHERN SUBURBS

614 Lincoln Avenue

Winnetka, IL 60093

Grant Type: MORTGAGE MODIFICATION AND MORTGAGE SCAMS ASSISTANCE

Amount Awarded: $19,348.27

JEFFERSON COUNTY COMMITTEE FOR ECONOMIC OPPORTUNITY

300 Eighth Avenue, West

Birmingham, AL 35204-3039

Grant Type: MORTGAGE MODIFICATION AND MORTGAGE SCAMS ASSISTANCE

Amount Awarded: $23,075.36

JEFFERSON COUNTY HOUSING AUTHORITY

3700 Industrial Parkway

Birmingham, AL 35217-5316

Grant Type: MORTGAGE MODIFICATION AND MORTGAGE SCAMS ASSISTANCE

Amount Awarded: $18,105.91

LATIN UNITED COMMUNITY HOUSING ASSOCIATION

3541 West North Avenue

Chicago, IL 60647-4808

Grant Type: MORTGAGE MODIFICATION AND MORTGAGE SCAMS ASSISTANCE

Amount Awarded: $26,181.26

MANATEE COMMUNITY ACTION AGENCY, INC. F/K/A MANATEE OPPORTUNITY COUNCIL, INCORPORATED

302 Manatee Avenue E

Suite 200

Bradenton, FL 34208

Grant Type: MORTGAGE MODIFICATION AND MORTGAGE SCAMS ASSISTANCE

Amount Awarded: $21,832.99

MID-FLORIDA HOUSING PARTNERSHIP, INC.

1834 Mason Avenue

Daytona Beach, FL 32117

Grant Type: MORTGAGE MODIFICATION AND MORTGAGE SCAMS ASSISTANCE

Amount Awarded: $16,863.54

MOBILE HOUSING BOARD

1555-B Eagle Drive

Mobile, AL 36605

Grant Type: MORTGAGE MODIFICATION AND MORTGAGE SCAMS ASSISTANCE Amount

Awarded: $24,317.72

MONROE-UNION COUNTY COMMUNITY DEVELOPMENT CORPORATION 349 East Franklin Street

Monroe, NC 28111

Grant Type: MORTGAGE MODIFICATION AND MORTGAGE SCAMS ASSISTANCE

Amount Awarded: $15,000.00

PARTNERS IN CHARITY, INC.

613 W. Main St.

West Dundee, IL 60118

Grant Type: MORTGAGE MODIFICATION AND MORTGAGE SCAMS ASSISTANCE

Amount Awarded: $16,242.36

REFUGEE FAMILY ASSISTANCE PROGRAM

5405 Memorial Drive Suite 101

Stone Mountain, GA 30083

Grant Type: MORTGAGE MODIFICATION AND MORTGAGE SCAMS ASSISTANCE

Amount Awarded: $15,621.18

RELIABLE BUSINESS SOLUTIONS, INC. 933 Lee Road

Suite 100

Orlando, FL 32810

Grant Type: MORTGAGE MODIFICATION AND MORTGAGE SCAMS ASSISTANCE

Amount Awarded: $28,044.81

ROGERS PARK COMMUNITY DEVELOPMENT CORPORATION

1411 W. Lunt Ave.

Chicago, IL 60626

Grant Type: MORTGAGE MODIFICATION AND MORTGAGE SCAMS ASSISTANCE

Amount Awarded: $16,242.36

S & S DEVELOPMENT GROUP, NFP

6909 South Ashland

Chicago, IL 60636

Grant Type: MORTGAGE MODIFICATION AND MORTGAGE SCAMS ASSISTANCE

Amount Awarded: $19,348.27

SOLITA'S HOUSE INC

1475 Tampa Park Plaza

Tampa, FL 33605

Grant Type: MORTGAGE MODIFICATION AND MORTGAGE SCAMS ASSISTANCE

Amount Awarded: $24,938.90

SOUTH SUBURBAN HOUSING CENTER

18220 Harwood Avenue, Suite 1

Homewood, IL 60430-2151

Grant Type: MORTGAGE MODIFICATION AND MORTGAGE SCAMS ASSISTANCE

Amount Awarded: $24,317.72

SPANISH COALITION FOR HOUSING

4035 W North Ave

Chicago, IL 60639

Grant Type: MORTGAGE MODIFICATION AND MORTGAGE SCAMS ASSISTANCE

Amount Awarded: $19,969.45

ST. LUCIE COUNTY BOARD OF COUNTY COMMISSIONERS

2300 Virginia Avenue

Fort Pierce, FL 34982

Grant Type: MORTGAGE MODIFICATION AND MORTGAGE SCAMS ASSISTANCE

Amount Awarded: $16,242.36

TALLAHASSEE LENDERS CONSORTIUM, INC.

224 Office Plaza

Tallahassee, FL 32301

Grant Type: MORTGAGE MODIFICATION AND MORTGAGE SCAMS ASSISTANCE

Amount Awarded: $24,317.72

TAMPA BAY COMMUNITY DEVELOPMENT CORPORATION

2139 NE Coachman Road

Clearwater, FL 33765

Grant Type: MORTGAGE MODIFICATION AND MORTGAGE SCAMS ASSISTANCE

Amount Awarded: $28,665.99

TAMPA HOUSING AUTHORITY D/B/A CENTER FOR AFFORDABLE HOMEOWNERSHIP 1803 N. Howard Avenue, Suite 100

Tampa, FL 33607

Grant Type: MORTGAGE MODIFICATION AND MORTGAGE SCAMS ASSISTANCE

Amount Awarded: $22,454.18

THE CENTER FOR AFFORDABLE HOUSING, INC

2524 S. Park Drive

Sanford, FL 32773

Grant Type: MORTGAGE MODIFICATION AND MORTGAGE SCAMS ASSISTANCE

Amount Awarded: $16,863.54

WILL COUNTY CENTER FOR COMMUNITY CONCERNS

304 N. Scott Street

Joliet, IL 60432-4035

Grant Type: MORTGAGE MODIFICATION AND MORTGAGE SCAMS ASSISTANCE

Amount Awarded: $26,802.44

Denver (LHCA-MMMSA)

ANOKA COUNTY COMMUNITY ACTION PROGRAM, INC

1201 89th Ave NE. Ste 345

Blaine, MN 55434-3373

Grant Type: MORTGAGE MODIFICATION AND MORTGAGE SCAMS ASSISTANCE

Amount Awarded: $18,727.09

CARVER COUNTY CDA

705 N. Walnut Street

Chaska, MN 55318

Grant Type: MORTGAGE MODIFICATION AND MORTGAGE SCAMS ASSISTANCE

Amount Awarded: $21,832.99

COMMUNITY ACTION PARTNERSHIP OF SUBURBAN HENNEPIN

8800 Highway 7

Suite 401

St. Louis Park, MN 55426

Grant Type: MORTGAGE MODIFICATION AND MORTGAGE SCAMS ASSISTANCE

Amount Awarded: $25,560.08

COMMUNITY DEVELOPMENT INC (FORMERLY SCI-TECH DEVELOPMENT INC.)

6300 N. Port Washington Road

Lower Floor

Milwaukee, WI 53217

Grant Type: MORTGAGE MODIFICATION AND MORTGAGE SCAMS ASSISTANCE

Amount Awarded: $25,560.08

DAKOTA COUNTY COMMUNITY DEVELOPMENT AGENCY

1228 Town Centre Drive

Eagan, MN 55123

Grant Type: MORTGAGE MODIFICATION AND MORTGAGE SCAMS ASSISTANCE

Amount Awarded: $24,938.90

GREATER NEW ORLEANS FAIR HOUSING ACTION CENTER

404 South Jefferson Davis Parkway

New Orleans, LA 70119

Grant Type: MORTGAGE MODIFICATION AND MORTGAGE SCAMS ASSISTANCE

Amount Awarded: $26,802.44

INDEPENDENT LIVING RESOURCE CENTER

Pinetree Corporate Center

4665 Indian School Road NE.

Suite 100

Albuquerque, NM 87110

Grant Type: MORTGAGE MODIFICATION AND MORTGAGE SCAMS ASSISTANCE

Amount Awarded: $26,181.26

LUTHERAN SOCIAL SERVICES/CCCS OF DULUTH

424 West Superior Street

Suite 600

Duluth, MN 55802

Grant Type: MORTGAGE MODIFICATION AND MORTGAGE SCAMS ASSISTANCE

Amount Awarded: $23,075.36

NEIGHBORWORKS SALT LAKE

622 W 500 North

Salt Lake City, UT 84116

Grant Type: MORTGAGE MODIFICATION AND MORTGAGE SCAMS ASSISTANCE

Amount Awarded: $18,105.91

UNITED SOUTH BROADWAY CORPORATION

1500 Walter SE.

Suite 202

Albuquerque, NM 87102

Grant Type: MORTGAGE MODIFICATION AND MORTGAGE SCAMS ASSISTANCE

Amount Awarded: $19,348.27

WASHINGTON COUNTY HOUSING AND REDEVELOPMENT AUTHORITY

321 Broadway Ave

St Paul Park, MN 55071

Grant Type: MORTGAGE MODIFICATION AND MORTGAGE SCAMS ASSISTANCE

Amount Awarded: $26,802.44

WEST CENTRAL WISCONSIN COMMUNITY ACTION AGENCY, INC.

525 Second Street

Glenwood City, WI 54013-0308

Grant Type: MORTGAGE MODIFICATION AND MORTGAGE SCAMS ASSISTANCE

Amount Awarded: $17,484.73

Philadelphia (LHCA—MMMSA)

ABAYOMI COMMUNITY DEVELOPMENT CORPORATION

24331 W. Eight Mile Road

Detroit, MI 48219

Grant Type: MORTGAGE MODIFICATION AND MORTGAGE SCAMS ASSISTANCE

Amount Awarded: $16,242.36

AFFORDABLE HOMES OF MILLVILLE ECUMENICAL

400 East Main St.

P.O. Box 241

Millville, NJ 08332

Grant Type: MORTGAGE MODIFICATION AND MORTGAGE SCAMS ASSISTANCE

Amount Awarded: $15,000.00

AFFORDABLE HOUSING ALLIANCE OF NEW JERSEY

59 Broad Street

Eatontown, NJ 07724

Grant Type: MORTGAGE MODIFICATION AND MORTGAGE SCAMS ASSISTANCE

Amount Awarded: $19,969.45

ARUNDEL COMMUNITY DEVELOPMENT SERVICE INC

2666 Riva Road

Suite 210

Annapolis, MD 21401

Grant Type: MORTGAGE MODIFICATION AND MORTGAGE SCAMS ASSISTANCE

Amount Awarded: $18,727.09

ASIAN AMERICANS FOR EQUALITY

108-110 Norfolk Street

New York, NY 10002

Grant Type: MORTGAGE MODIFICATION AND MORTGAGE SCAMS ASSISTANCE

Amount Awarded: $26,181.26

BURLINGTON COUNTY COMMUNITY ACTION PROGRAM

One Van Sciver Parkway

Willingboro, NJ 08046

Grant Type: MORTGAGE MODIFICATION AND MORTGAGE SCAMS ASSISTANCE

Amount Awarded: $16,863.54

CECIL COUNTY HOUSING AGENCY

200 Chesapeake Blvd. Suite 1800

Elkton, MD 21921

Grant Type: MORTGAGE MODIFICATION AND MORTGAGE SCAMS ASSISTANCE

Amount Awarded: $24,938.90

CENTRAL JERSEY HOUSING RESOURCE CENTER, INC.

600 First Avenue

Suite 3

Raritan, NJ 08869

Grant Type: MORTGAGE MODIFICATION AND MORTGAGE SCAMS ASSISTANCE

Amount Awarded: $17,484.73

CHILDREN'S & FAMILY SERVICE A/K/A FAMILY SERVICE AGENCY

535 Marmion Avenue

Youngstown, OH 44502-2323

Grant Type: MORTGAGE MODIFICATION AND MORTGAGE SCAMS ASSISTANCE

Amount Awarded: $23,696.54

COMMISSION ON ECONOMIC OPPORTUNITY OF LUZERNE COUNTY

165 Amber Lane

Wilkes-Barre, PA 18702

Grant Type: MORTGAGE MODIFICATION AND MORTGAGE SCAMS ASSISTANCE

Amount Awarded: $19,348.27

COMMUNITY ACTION COMMITTEE OF LEHIGH VALLEY, INC.

1337 E. 5th Street

Bethlehem, PA 18015

Grant Type: MORTGAGE MODIFICATION AND MORTGAGE SCAMS ASSISTANCE

Amount Awarded: $17,484.73

COMMUNITY DEVELOPMENT CORPORATION OF LONG ISLAND

2100 Middle Country Road, Suite 300

Centereach, NY 11720

Grant Type: MORTGAGE MODIFICATION AND MORTGAGE SCAMS ASSISTANCE

Amount Awarded: $16,242.36

COUNTY OF NASSAU ECONOMIC DEVELOPMENT—OFFICE OF HOUSING & INTERGOVERNMENTAL AFFAIRS

40 Main Street, Suite B

Hempstead, NY 11550

Grant Type: MORTGAGE MODIFICATION AND MORTGAGE SCAMS ASSISTANCE

Amount Awarded: $20,590.63

CREDIT COUNSELING CENTER

832 Second Street Pike

Richboro, PA 18954

Grant Type: MORTGAGE MODIFICATION AND MORTGAGE SCAMS ASSISTANCE

Amount Awarded: $25,560.08

FAIR HOUSING CONTACT SERVICE

441 Wolf Ledges Pkwy., Ste. 200

Akron, MO 44311

Grant Type: MORTGAGE MODIFICATION AND MORTGAGE SCAMS ASSISTANCE

Amount Awarded: $21,832.99

FAIR HOUSING RESOURCE CENTER

1100 Mentor Ave

Painesville, OH 44077

Grant Type: MORTGAGE MODIFICATION AND MORTGAGE SCAMS ASSISTANCE

Amount Awarded: $24,938.90

FAMILY GUIDANCE CENTER CORPORATION

1931 Nottingham Way

Hamilton, NJ 08619

Grant Type: MORTGAGE MODIFICATION AND MORTGAGE SCAMS ASSISTANCE

Amount Awarded: $15,621.18

FIRST HOME ALLIANCE

3138 Golansky Blvd.

Suite 202

Woodbridge, VA 22192

Grant Type: MORTGAGE MODIFICATION AND MORTGAGE SCAMS ASSISTANCE

Amount Awarded: $17,484.73

FREDERICK COMMUNITY ACTION AGENCY

100 S Market St

Frederick, MD 21701-5527

Grant Type: MORTGAGE MODIFICATION AND MORTGAGE SCAMS ASSISTANCE

Amount Awarded: $17,484.73

HAGERSTOWN NEIGHBORHOOD DEVELOPMENT PARTNERSHIP, INC.

21 East Franklin Street

Hagerstown, MD 21740

Grant Type: MORTGAGE MODIFICATION AND MORTGAGE SCAMS ASSISTANCE

Amount Awarded: $21,211.81

HARFORD COUNTY HOUSING AGENCY

15 South Main Street

Suite 106

Bel Air, MD 21014

Grant Type: MORTGAGE MODIFICATION AND MORTGAGE SCAMS ASSISTANCE

Amount Awarded: $19,348.27

HOME PARTNERSHIP, INCORPORATED

Rumsey Towers Building, Suite 301

626 Towne Center Drive

Joppatowne, MD 21085

Grant Type: MORTGAGE MODIFICATION AND MORTGAGE SCAMS ASSISTANCE

Amount Awarded: $23,075.36

HOME REPAIR SERVICES OF KENT COUNTY

1100 South Division

Grand Rapids, MI 49507-1024

Grant Type: MORTGAGE MODIFICATION AND MORTGAGE SCAMS ASSISTANCE

Amount Awarded: $19,348.27

HOUSING AUTHORITY OF THE CITY OF PATERSON

60 Van Houten Street

Paterson, NJ 07509

Grant Type: MORTGAGE MODIFICATION AND MORTGAGE SCAMS ASSISTANCE

Amount Awarded: $21,832.99

HOUSING COUNSELING SERVICES, INCORPORATED

2410 17th St NW

Adams Alley Entrance, Washington, DC 20009

Grant Type: MORTGAGE MODIFICATION AND MORTGAGE SCAMS ASSISTANCE

Amount Awarded: $23,696.54

HOUSING INITIATIVES PARTNERSHIP, INCORPORATED

6525 Belcrest Road

Suite 555

Hyattsville, MD 20782

Grant Type: MORTGAGE MODIFICATION AND MORTGAGE SCAMS ASSISTANCE

Amount Awarded: $21,832.99

HUMAN DEVELOPMENT SERVICES OF WESTCHESTER, INC.

930 Mamaroneck Avenue

Mamaroneck, NY 10543

Grant Type: MORTGAGE MODIFICATION AND MORTGAGE SCAMS ASSISTANCE

Amount Awarded: $22,454.18

INNER CITY CHRISTIAN FEDERATION

920 Cherry SE.

Grand Rapids, MI 49506

Grant Type: MORTGAGE MODIFICATION AND MORTGAGE SCAMS ASSISTANCE

Amount Awarded: $23,075.36

INTERCULTURAL FAMILY SERVICES, INCORPORATED

4225 Chestnut St.

Philadelphia, PA 19104-3014

Grant Type: MORTGAGE MODIFICATION AND MORTGAGE SCAMS ASSISTANCE

Amount Awarded: $22,454.18

LA CASA DE DON PEDRO

75 Park Avenue

Newark, NJ 07104

Grant Type: MORTGAGE MODIFICATION AND MORTGAGE SCAMS ASSISTANCE

Amount Awarded: $17,484.73

LATINO ECONOMIC DEVELOPMENT CORPORATION

2316 18th Street NW.

Washington, DC 20009-0000

Grant Type: MORTGAGE MODIFICATION AND MORTGAGE SCAMS ASSISTANCE

Amount Awarded: $21,211.81

LIGHTHOUSE COMMUNITY DEVELOPMENT

46156 Woodward Ave.

Pontiac, MI 48342-5033

Grant Type: MORTGAGE MODIFICATION AND MORTGAGE SCAMS ASSISTANCE

Amount Awarded: $18,105.91

MARGERT COMMUNITY CORPORATION

325 Beach 37th Street

Far Rockaway, NY 11691-1510

Grant Type: MORTGAGE MODIFICATION AND MORTGAGE SCAMS ASSISTANCE

Amount Awarded: $23,696.54

MHANY MANAGEMENT, INC., A MUTUAL HOUSING ORGANIZATION

2-4 Nevins Street, 2nd Floor

Brooklyn, NY 11217

Grant Type: MORTGAGE MODIFICATION AND MORTGAGE SCAMS ASSISTANCE

Amount Awarded: $23,696.54

MID-OHIO REGIONAL PLANNING COMMISSION

111 Liberty Street, Suite 100

Columbus, OH 43215-5272

Grant Type: MORTGAGE MODIFICATION AND MORTGAGE SCAMS ASSISTANCE

Amount Awarded: $21,832.99

MT. AIRY, USA

6703 Germantown Ave-Suite 200

Philadelphia, PA 19119

Grant Type: MORTGAGE MODIFICATION AND MORTGAGE SCAMS ASSISTANCE

Amount Awarded: $27,423.63

NEIGHBORHOOD HOUSING SERVICES OF JAMAICA

89-70 162nd Street

Jamaica, NY 11432

Grant Type: MORTGAGE MODIFICATION AND MORTGAGE SCAMS ASSISTANCE

Amount Awarded: $17,484.73

NEIGHBORHOOD HOUSING SERVICES OF NEW YORK CITY (NHS OF NYC)

307 West 36th St., 12 floor

New York, NY 10018-6495

Grant Type: MORTGAGE MODIFICATION AND MORTGAGE SCAMS ASSISTANCE

Amount Awarded: $22,454.18

NEIGHBORS HELPING NEIGHBORS, INC.

443 39th Street, Suite 202

Brooklyn, NY 11232

Grant Type: MORTGAGE MODIFICATION AND MORTGAGE SCAMS ASSISTANCE

Amount Awarded: $24,317.72

NEW JERSEY CITIZEN ACTION

744 Broad St., Ste. 2080

Newark, NJ 07102-3805

Grant Type: MORTGAGE MODIFICATION AND MORTGAGE SCAMS ASSISTANCE

Amount Awarded: $25,560.08

NORTHWEST OHIO DEVELOPMENT AGENCY

432 N. Superior Street

Toledo, OH 43604

Grant Type: MORTGAGE MODIFICATION AND MORTGAGE SCAMS ASSISTANCE

Amount Awarded: $23,696.54

NY STATE OFFICE FOR PEOPLE WITH DEVELOPMENTAL DISABILITIES (OPWDD)

44 Holland Avenue

Albany, NY 12229-0001

Grant Type: MORTGAGE MODIFICATION AND MORTGAGE SCAMS ASSISTANCE

Amount Awarded: $22,454.18

OAKLAND COUNTY HOUSING COUNSELING

250 Elizabeth Lake Rd., Ste. 1900

Pontiac, MI 48341

Grant Type: MORTGAGE MODIFICATION AND MORTGAGE SCAMS ASSISTANCE

Amount Awarded: $23,075.36

OAKLAND LIVINGSTON HUMAN SERVICE AGENCY

196 Cesar E. Chavez Ave.

Pontiac, MI 48343

Grant Type: MORTGAGE MODIFICATION AND MORTGAGE SCAMS ASSISTANCE

Amount Awarded: $18,105.91

OCEAN COMMUNITY ECONOMIC ACTION NOW, INC. (O.C.E.A.N., INC.)

40 Washington Street

Toms River, NJ 08753

Grant Type: MORTGAGE MODIFICATION AND MORTGAGE SCAMS ASSISTANCE

Amount Awarded: $21,211.81

ORANGE COUNTY RURAL DEVELOPMENT ADVISORY CORP

PO Box 1224

59b Boniface Dr.

Pine Bush, NY 12566

Grant Type: MORTGAGE MODIFICATION AND MORTGAGE SCAMS ASSISTANCE

Amount Awarded: $21,832.99

PRINCE WILLIAM COUNTY VIRGINIA COOPERATIVE EXTENSION

8033 Ashton Ave., Ste. 105

Manassas, VA 20109-8202

Grant Type: MORTGAGE MODIFICATION AND MORTGAGE SCAMS ASSISTANCE

Amount Awarded: $24,317.72

PRO-HOME, INC.

40 Summer Street

Taunton, MA 02780

Grant Type: MORTGAGE MODIFICATION AND MORTGAGE SCAMS ASSISTANCE

Amount Awarded: $21,832.99

PROVIDENCE COMMUNITY ACTION PROGRAM, INC.

518 Hartford Avenue

Providence, RI 02909

Grant Type: MORTGAGE MODIFICATION AND MORTGAGE SCAMS ASSISTANCE

Amount Awarded: $15,000.00

PUERTO RICAN ACTION BOARD, INC. (HOUSING COALITION UNIT)

90 Jersey Ave.

New Brunswick, NJ 08901

Grant Type: MORTGAGE MODIFICATION AND MORTGAGE SCAMS ASSISTANCE

Amount Awarded: $16,863.54

PUTNAM COUNTY HOUSING CORPORATION

11 Seminary Hill Road

Carmel, NY 10512

Grant Type: MORTGAGE MODIFICATION AND MORTGAGE SCAMS ASSISTANCE

Amount Awarded: $19,348.27

QUIN RIVERS, INC

12025 Courthouse Cir.

New Kent, VA 23124-2242

Grant Type: MORTGAGE MODIFICATION AND MORTGAGE SCAMS ASSISTANCE

Amount Awarded: $26,181.26

ROCKLAND HOUSING ACTION COALITION

120-126 North Main Street

Annex First Floor

New City, NY 10956

Grant Type: MORTGAGE MODIFICATION AND MORTGAGE SCAMS ASSISTANCE

Amount Awarded: $23,075.36

SPRINGFIELD NEIGHBORHOOD HOUSING SERVICES

111 Wilbraham Rd.

Springfield, MA 01109

Grant Type: MORTGAGE MODIFICATION AND MORTGAGE SCAMS ASSISTANCE

Amount Awarded: $17,484.73

THE HOUSING AUTHORITY OF THE CITY OF PERTH AMBOY

881 Amboy Avenue

Perth Amboy, NJ 08862

Grant Type: MORTGAGE MODIFICATION AND MORTGAGE SCAMS ASSISTANCE

Amount Awarded: $23,075.36

TRI-COUNTY COMMUNITY ACTION AGENCY

110 Cohansey St.

Bridgeton, NJ 08302

Grant Type: MORTGAGE MODIFICATION AND MORTGAGE SCAMS ASSISTANCE

Amount Awarded: $15,000.00

UNEMPLOYMENT INFORMATION CENTER

112 N. Broad Street, 11th Floor

Philadelphia, PA 19102

Grant Type: MORTGAGE MODIFICATION AND MORTGAGE SCAMS ASSISTANCE

Amount Awarded: $23,075.36

UNITED NEIGHBORHOOD CENTERS OF NORTHEASTERN PENNSYLVANIA

425 Alder St.

Scranton, PA 18505

Grant Type: MORTGAGE MODIFICATION AND MORTGAGE SCAMS ASSISTANCE

Amount Awarded: $24,938.90

WESTCHESTER RESIDENTIAL OPPORTUNITIES, INCORPORATED

470 Mamaroneck Ave, Suite 410

White Plains, NY 10605-1830

Grant Type: MORTGAGE MODIFICATION AND MORTGAGE SCAMS ASSISTANCE

Amount Awarded: $17,484.73

WORKING IN NEIGHBORHOODS

1814 Dreman Avenue

Cincinnati, OH 45223

Grant Type: MORTGAGE MODIFICATION AND MORTGAGE SCAMS ASSISTANCE

Amount Awarded: $18,727.09

Santa Ana (LHCA—MMMSA)

CITY OF VACAVILLE DEPARTMENT OF HOUSING AND REDEVELOPMENT

40 Eldridge Avenue

Suite 2

Vacaville, CA 95688-6800

Grant Type: MORTGAGE MODIFICATION AND MORTGAGE SCAMS ASSISTANCE

Amount Awarded: $24,938.90

COMMUNITY HOUSING COUNCIL OF FRESNO

4270 N. Blackstone Ave., Suite 110

Fresno, CA 93726

Grant Type: MORTGAGE MODIFICATION AND MORTGAGE SCAMS ASSISTANCE

Amount Awarded: $16,242.36

COMMUNITY HOUSING DEVELOPMENT CORPORATION OF NORTH RICHMOND

1535-A Fred Jackson Way

(formerly Third Street)

Richmond, CA 94801

Grant Type: MORTGAGE MODIFICATION AND MORTGAGE SCAMS ASSISTANCE

Amount Awarded: $21,832.99

COMMUNITY SERVICES AND EMPLOYMENT TRAINING, INC. (CSET)

312 NW. 3rd Avenue Visalia, CA 93291

Grant Type: MORTGAGE MODIFICATION AND MORTGAGE SCAMS ASSISTANCE

Amount Awarded: $19,348.27

CONSUMER CREDIT COUNSELING SERVICE OF ORANGE COUNTY

1920 Old Tustin AVE

———Santa Ana, CA 92705

Grant Type: MORTGAGE MODIFICATION AND MORTGAGE SCAMS ASSISTANCE

Amount Awarded: $29,287.17

CONSUMER CREDIT COUNSELING SERVICE OF SOUTHERN NEVADA

2650 S. Jones Blvd.

Las Vegas, NV 89146-0000

Grant Type: MORTGAGE MODIFICATION AND MORTGAGE SCAMS ASSISTANCE

Amount Awarded: $23,075.36

EDEN COUNCIL FOR HOPE AND OPPORTUNITY (ECHO)

770 A St

Hayward, CA 94541-3956

Grant Type: MORTGAGE MODIFICATION AND MORTGAGE SCAMS ASSISTANCE

Amount Awarded: $15,621.18

FAIR HOUSING COUNCIL OF RIVERSIDE COUNTY, INC

3933 Mission Inn Ave

Riverside, CA 92501

Grant Type: MORTGAGE MODIFICATION AND MORTGAGE SCAMS ASSISTANCE

Amount Awarded: $20,590.63

FAMILY HOUSING RESOURCES

1700N E Fort Lowell Rd

Suite 101

Tucson, AZ 85719-2321

Grant Type: MORTGAGE MODIFICATION AND MORTGAGE SCAMS ASSISTANCE

Amount Awarded: $24,317.72

HOUSING AUTHORITY OF THE CITY OF FRESNO

1331 Fulton Mall Fresno, CA 93721

Grant Type: MORTGAGE MODIFICATION AND MORTGAGE SCAMS ASSISTANCE

Amount Awarded: $23,075.36

LEGAL AID SOCIETY OF ORANGE COUNTY

2101 North Tustin Ave

Santa Ana, CA 92705

Grant Type: MORTGAGE MODIFICATION AND MORTGAGE SCAMS ASSISTANCE

Amount Awarded: $17,484.73

LOS ANGELES NEIGHBORHOOD HOUSING SERVICES, INC

3926 Wilshire Blvd. Suite 200

Los Angeles, CA 90010

Grant Type: MORTGAGE MODIFICATION AND MORTGAGE SCAMS ASSISTANCE

Amount Awarded: $24,938.90

MISSION ECONOMIC DEVELOPMENT ASSOCIATION (MEDA)

2301 Mission Street, Suite 301

San Francisco, CA 94110

Grant Type: MORTGAGE MODIFICATION AND MORTGAGE SCAMS ASSISTANCE

Amount Awarded: $19,969.45

NEIGHBORHOOD HOUSE ASSOCIATION 841 South 41st Street

San Diego, CA 92113

Grant Type: MORTGAGE MODIFICATION AND MORTGAGE SCAMS ASSISTANCE

Amount Awarded: $21,211.81

NEIGHBORHOOD HOUSING SERVICES OF THE INLAND EMPIRE, INC.

1390 North D Street

San Bernardino, CA 92405

Grant Type: MORTGAGE MODIFICATION AND MORTGAGE SCAMS ASSISTANCE

Amount Awarded: $23,075.36

NEIGHBORHOOD PARTNERSHIP HOUSING SERVICES, INC.

320 W. G St

Suite 103

Ontario, CA 91762

Grant Type: MORTGAGE MODIFICATION AND MORTGAGE SCAMS ASSISTANCE

Amount Awarded: $23,696.54

PROJECT SENTINEL

525 Middlefield Road

Suite #200

Redwood City, CA 94063

Grant Type: MORTGAGE MODIFICATION AND MORTGAGE SCAMS ASSISTANCE

Amount Awarded: $19,969.45

TAKE CHARGE AMERICA

20620 N 19th Ave

Phoenix, AZ 85027

Grant Type: MORTGAGE MODIFICATION AND MORTGAGE SCAMS ASSISTANCE

Amount Awarded: $15,000.00

THE SPANISH SPEAKING UNITY COUNCIL OF ALAMEDA COUNTY, INC. (THE UNITY COUNCIL)

3301 East 12th Street

Suite 101

Oakland, CA 94601

Grant Type: MORTGAGE MODIFICATION AND MORTGAGE SCAMS ASSISTANCE

Amount Awarded: $25,560.08

TRI-VALLEY HOUSING OPPORTUNITY CENTER

141 N. Livermore Avenue, Suite A

Livermore, CA 94550

Grant Type: MORTGAGE MODIFICATION AND MORTGAGE SCAMS ASSISTANCE

Amount Awarded: $20,590.63

[FR Doc. 2011-32338 Filed 12-15-11; 8:45 am]

BILLING CODE 4210-67-P